DEPARTMENT OF ENERGY

Federal Energy Regulatory Commission

[Docket No. RP00-282-001]

Williston Basin Interstate Pipeline Company; Notice of Tariff Filing

June 29, 2000.

Take notice that on June 23, 2000, Williston Basin Interstate Pipeline Company (Williston Basin), tendered for filing as part of its FERC Gas Tariff, Second Revised Volume No. 1, the following revised tariff sheet to become effective June 1, 2000:

Substitute Second Revised Sheet No. 291

Williston Basin states that on June 9, 2000, the Commission issued its “Order Accepting Tariff Sheets Subject to Conditions”, in the above-referenced docket. The Order required Williston Basin to file revised tariff language reflecting the clarification made in Order No. 637-A, providing that a maximum rate contract for more than one year, for a service which is not available for 12 consecutive months, would be subject to the right of first refusal. Williston Basin states it is submitting the instant filing to comply with that Order.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-17001 Filed 7-5-00; 8:45 am]

BILLING CODE 6717-01-M